DEPARTMENT OF HOMELAND SECURITY

Coast Guard

33 CFR Part 117

[CGD11-03-001]

RIN 1625-AA09

Drawbridge Operation Regulation; Cerritos Channel, Long Beach, CA

AGENCY: Coast Guard, DHS.

ACTION: Temporary rule.

SUMMARY: The Commander, Eleventh Coast Guard District, is temporarily changing the regulation governing the Heim Drawbridge, mile 4.9 Cerritos Channel, Long Beach, CA, so the drawbridge need not open for vessel traffic on weekends and evenings during October and November, 2003. California Department of Transportation (“Caltrans”) requested this temporary change to perform essential deck repairs on the drawbridge.

DATES: This temporary rule is effective from 7 p.m. on October 2, 2003, to 6 a.m. on November 21, 2003.

ADDRESSES: Documents referred to in this rule are available for inspection and copying at Commander (oan), Eleventh Coast Guard District, Building 50-3, Coast Guard Island, Alameda, CA 94501-5100, between 8 a.m. and 4 p.m., Monday through Friday, except Federal holidays.

FOR FURTHER INFORMATION CONTACT: David H. Sulouff, Chief, Bridge Section, Eleventh Coast Guard District, telephone (510) 437-3516.

SUPPLEMENTARY INFORMATION:

Good Cause for Not Publishing an NPRM

We did not publish a notice of proposed rulemaking (NPRM) for this regulation. Under 5 U.S.C. 553(b)(B), the Coast Guard finds that good cause exists for not publishing an NPRM. This rule is being promulgated without an NPRM due to the short time frame between the submission of the request and the start date of the scheduled repairs.

Good Cause for Making Rule Effective in Less Than 30 Days

Under 5 U.S.C. 553(d)(3), the Coast Guard finds that good cause exists for making this rule effective less than 30 days after publication in the Federal Register. The Coast Guard received the request for the temporary change less than 30 days prior to the scheduled repairs. Delaying the effective date of this rule would be contrary to the public interest because the deck of the bridge is in need of repairs and the repairs require the bridge to be in the closed-to-navigation position for extended periods of time. This event has been thoroughly coordinated with waterway users and no objections have been received. There is an alternative path for navigation around Terminal Island and the repair work will occur during evening hours when there is less waterway activity.

Background and Purpose

Caltrans has requested a temporary change to the operation of the Heim Drawbridge, mile 4.9 Cerritos Channel in Long Beach, CA. The Heim Drawbridge navigation span provides vertical clearance of 37 feet above Mean High Water in the closed-to-navigation position. The waterway is navigated by commercial, recreational, and emergency response watercraft. Presently, 33 CFR 117.147 requires the draw to open on signal for the passage of vessels, except during established workday rush hours. In order to repair the deck of the bridge, Caltrans requested the drawbridge temporarily be allowed to remain closed to navigation on the weekends from 7 p.m. Friday until 6 a.m. Monday, and for the bridge to remain closed during the work week each night from 7 p.m. until 6 a.m., Monday through Friday. This temporary rule is effective from 7 p.m. on October 2, 2003, to 6 a.m. on November 21, 2003. During this time Caltrans will perform essential deck repairs on the drawspan. This temporary drawbridge operation amendment has been coordinated with the waterway users. No objections to the proposed temporary rule were raised.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). The Coast Guard expects the economic impact of this temporary rule to be so minimal that a full Regulatory Evaluation under paragraph 10(e) of the regulatory policies and procedures of DOT is unnecessary. This is because waterway traffic has an alternative route and is not likely to be delayed more than one hour.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities as none will be affected by the temporary rule.

Assistance for Small Entities

Under section 213(a) of the Small Business Regulatory Enforcement Fairness Act of 1996 (Pub. L. 104-121), we offered to assist small entities in understanding the rule so that they could better evaluate its effects on them and participate in the rulemaking process. None were identified as being present on the waterway during the temporary rule.

Collection of Information

This rule calls for no new collection of information under the Paperwork Reduction Act (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have analyzed this rule under Commandant Instruction M16475.lD, which guides the Coast Guard in complying with the National Environmental Policy Act of 1969 (NEPA) (42 U.S.C. 4321-4370f), and have concluded no factors in this case would limit the use of a categorical exclusion under section 2.B.2 of the Instruction. Therefore, this rule is categorically excluded, under figure 2-1, paragraph (32)(e), of the Instruction, from further environmental documentation as a promulgation of operating regulations or procedures for drawbridges. A Categorical Exclusion Determination is available in the docket where indicated under ADDRESSES.

List of Subjects in 33 CFR Part 117

Bridges.

Regulations

For the reasons discussed in the preamble, the Coast Guard amends 33 CFR part 117 as follows:

PART 117—DRAWBRIDGE OPERATION REGULATIONS

1. The authority citation for part 117 continues to read as follows:

Authority: 33 U.S.C. 499; 33 CFR 1.05-1(g); Department of Homeland Security Delegation No. 0170.1; section 117.255 also issued under the authority of Pub. L. 102-587, 106 Stat. 5039.

2. From 7 p.m. on October 2 to 6 a.m. November 21, 2003, in § 117.147, paragraph (a) is suspended and a new paragraph (c) is temporarily added to read as follows:

§ 117.147 Cerritos Channel.

* * * * *

(c) From 7 p.m. on October 2, 2003, to 6 a.m. on November 21, 2003, the draw of the Commodore Schuyler F. Heim highway bridge, mile 4.9 at Long Beach, need not open for vessels on weekends from 7 p.m. each Friday until 6 a.m. each Monday, and during weekdays, the draw need not open from 7 p.m. until 6 a.m., each night, Monday through Friday. During these times, the draw may remain closed to navigation.

Dated: September 30, 2003.
J.M. Hass,
Captain, U.S. Coast Guard, Acting Commander, Eleventh Coast Guard District.

[FR Doc. 03-25415 Filed 10-7-03; 8:45 am]

BILLING CODE 4910-15-P